DEPARTMENT OF ENERGY

Federal Energy Regulatory Commission

Sunshine Act; Meeting; Revised Notice of Meeting*

June 23, 2003.

The following notice of meeting is published pursuant to section 3(a) of the Government in the Sunshine Act (Pub. L. No. 94-409), 5 U.S.C. 552b:

* On June 19, 2003, the Commission issued a Notice of Meeting scheduling a closed meeting for June 26, 2003. This meeting is hereby canceled.

Agency Holding Meeting: Federal Energy Regulatory Commission.

Date and Time: June 25, 2003 (Within a relatively short time after the regular Commission Meeting).

Place: Room 3M 4A/B, 888 First Street, NE., Washington, DC 20426.

Status: Closed.

Matters to be Considered: Non-Public Investigations and Inquiries and Enforcement Related Matters.

Contact Person for More Information: Magalie R. Salas, Secretary. Telephone (202) 502-8627.

The following Commissioners voted that agency business requires the holding of a closed meeting on less than the seven-day notice required by the Government in the Sunshine Act: Chairman Wood and Commissioners Massey and Brownell.

Magalie R. Salas,
Secretary.

[FR Doc. 03-16396 Filed 6-24-03; 4:20 pm]

BILLING CODE 6717-01-P